DEPARTMENT OF COMMERCE

National Oceanic and Atmospheric Administration

RIN 0648-XV010

North Pacific Fishery Management Council; Public Meeting

AGENCY: National Marine Fisheries Service (NMFS), National Oceanic and Atmospheric Administration (NOAA), Commerce.

ACTION: Notice of public meeting.

SUMMARY: The North Pacific Fishery Management Council (Council) Trawl Electronic Monitoring Committee will meet August 21, 2019 through August 22, 2019.

DATES: The meeting will be held on Wednesday, August 21, 2019, from 1 p.m. to 5 p.m. and on Thursday, August 22, 2019, from 8:30 a.m. to 5 p.m., Pacific Standard Time.

ADDRESSES: The meeting will be held in the offices of the Pacific States Marine Fisheries Commission, 205 SE Spokane Street, Suite 100, Portland, OR 97202. Teleconference: (907) 245-3900, Pin is 2809.

Council address: North Pacific Fishery Management Council, 605 W 4th Ave., Suite 306, Anchorage, AK 99501-2252; telephone: (907) 271-2809.

FOR FURTHER INFORMATION CONTACT: Diana Evans, Council staff; telephone: (907) 271-2809.

SUPPLEMENTARY INFORMATION:

Agenda

Wednesday, August 21, 2019 to Thursday, August 22, 2019

The agenda will include discussion of: A strategic review of fishery monitoring committee roles; EM cost metrics; 2019 Trawl EM program; the west coast whiting program; planning for the 2020 Trawl EM program; update on relevant information from the observer fee analysis; and, scheduling and other issues. The Agenda is subject to change, and the latest version will be posted at www.npfmc.org/Meetings/Details/745 prior to the meeting, along with meeting materials.

Public Comment

Public comment letters will be accepted and should be submitted either electronically to www.meetings.npfmc .org/Meetings/Details/745 or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Authority: 16 U.S.C. 1801 et seq.

Dated: July 26, 2019.
Tracey L. Thompson,
Acting Deputy Director, Office of Sustainable Fisheries, National Marine Fisheries Service.

[FR Doc. 2019-16252 Filed 7-30-19; 8:45 am]

BILLING CODE 3510-22-P